DEPARTMENT OF HEALTH AND HUMAN SERVICES

Administration for Children and Families

Proposed Information Collection Activity; Child Support Enforcement Program Quarterly Financial Report (OCSE-396) and Quarterly Collection Report (OCSE-34) (OMB #0970-0181)

AGENCY: Office of Child Support Enforcement, Administration for Children and Families, Department of Health and Human Services.

ACTION: Request for public comment.

SUMMARY: The Administration for Children and Families (ACF) is requesting a 3-year extension of the forms: OCSE-34 “Child Support Enforcement Program Quarterly Collection Report,” and OCSE-396 “Child Support Enforcement Program Quarterly Financial Report.” These forms are currently approved under the ACF Generic Clearance for Financial Reports (OMB #0970-0510; expiration May 31, 2021), and ACF is proposing to reinstate the previous OMB number under which these forms had been approved (OMB #0970-0181). There are no changes requested to the forms, but the instructions have been updated for clarity and to update the current fee amounts.

DATES: Comments due within 60 days of publication. In compliance with the requirements of section 3506(c)(2)(A) of the Paperwork Reduction Act of 1995, ACF is soliciting public comment on the specific aspects of the information collection described above.

ADDRESSES: Copies of the proposed collection of information can be obtained and comments may be forwarded by emailing infocollection@acf.hhs.gov. Alternatively, copies can also be obtained by writing to the Administration for Children and Families, Office of Planning, Research, and Evaluation (OPRE), 330 C Street SW, Washington, DC 20201, Attn: ACF Reports Clearance Officer. All requests, emailed or written, should be identified by the title of the information collection.

SUPPLEMENTARY INFORMATION: Description: Form OCSE-396 and Form OCSE-34 are financial reports submitted following the end of each fiscal quarter by grantees administering the Child Support Enforcement Program in accordance with plans approved under Title IV-D of the Social Security Act. Submission of these forms enables grantees to meet their statutory and regulatory requirement to report program expenditures and child support collections, respectively, from the previous fiscal quarter.

States use Form OCSE-396 to report quarterly expenditures made in the previous quarter and to estimate program expenditures to be made, and incentive payments to be earned, in the upcoming quarter. ACF provides federal funding to states for the Child Support Enforcement Program at the rate of 66 percent for all allowable and legitimate administrative costs of this program. States use Form OCSE-34 to report quarterly collections made under Title IV-D of the Social Security Act.

Tribes use OMB Form SF-425 to report quarterly expenditures made in the previous quarter. Form SF-425 is approved under OMB #4040-0014 and is not included as part of this comment request.

Respondents: 54 states (including Puerto Rico, Guam, the Virgin Islands, and the District of Columbia) complete Forms OCSE-396 and OCSE-34. Approximately 60 tribes complete Form OCSE-34.

Annual Burden Estimates
Instrument | Total number of respondents | Annual number of responses per respondent | Average burden hours per response | Annual burden hours
Form OCSE-396 | 54 | 4 | 6 | 1,296
Form OCSE-34 | 114 | 4 | 14 | 6,384

Estimated Total Annual Burden Hours: 7,680.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Sections 454(10), 455(b), 455(d), and 458(e) of the Social Security Act.

Mary B. Jones,
ACF/OPRE Certifying Officer.

[FR Doc. 2021-05630 Filed 3-17-21; 8:45 am]

BILLING CODE 4184-41-P